DEPARTMENT OF LABOR

[Prohibited Transaction Exemption 2003-24]

Deutsche Bank AG and Its Affiliates; and JPMorgan Chase Bank and Its Affiliates (Collectively, the Applicants)

AGENCY: Department of Labor.

ACTION: Notice of technical correction.

On August 14, 2003, the Department of Labor (the Department) published in the Federal Register (68 FR 48637) an individual exemption which permits the purchase of any securities by an asset management affiliate of the Applicants (the Asset Manager), on behalf of employee benefit plans (Client Plans), including Client Plans investing in a pooled fund, for which the Asset Manager acts as a fiduciary, from any person other than the Asset Manager or an Affiliate thereof, during the existence of an underwriting or selling syndicate with respect to such securities, where any broker-dealer affiliate of the Applicants is a manager or member of such syndicate (i.e., “affiliated underwriter transaction” or “AUT”), and/or where an affiliated trustee serves as trustee of a trust that issued the securities (whether or not debt securities) or serves as indenture trustee of securities that are debt securities (i.e., an “affiliated trustee transaction” or “ATT”).

Section I(n)(5) of the exemption requires explicit notification to an Independent Fiduciary that the authorization to engage in the covered transaction may be terminated, without penalty (see the third column on 68 FR 48639). The eighth line therein should read as follows:

“* * * on no more than five days’ notice by * * *” [emphasis added]

FOR FURTHER INFORMATION CONTACT: Mr. Gary Lefkowitz of the Department, telephone (202) 693-8546.

Signed at Washington DC this 24th day of September, 2003.
Ivan L. Strasfeld,
Director, Office of Exemption Determinations, Employee Benefits Security Administration.

[FR Doc. 03-24593 Filed 9-26-03; 8:45 am]

BILLING CODE 4510-29-P